DEPARTMENT OF ENERGY

National Coal Council

AGENCY: Office of Fossil Energy, Department of Energy.

ACTION: Notice of open meeting.

SUMMARY: This notice announces a virtual meeting of the National Coal Council (NCC) via WebEx. The Federal Advisory Committee Act requires that public notice of this meeting be announced in the Federal Register.

DATES: Thursday, July 16, 2020; 12:00 noon to 1:00 p.m. (EST).

ADDRESSES: This will be virtual meeting conducted through WebEx. If you wish to join the meeting you must register by close of business (5 p.m. EST) on Friday, July 10th by using the form available at the following URL: http://www.nationalcoalcouncil.org/page-NCC-Events.html. The email address you provide in the on-line registration form will be used to forward instructions on how to join the meeting using WebEx. WebEx requires a computer, web browser and an installed application (free). Instructions for joining the webcast will be sent to you two days in advance of the meeting.

FOR FURTHER INFORMATION CONTACT: Thomas Sarkus, U.S. Department of Energy, National Energy Technology Laboratory, Mail Stop 920-125, P.O. Box 10940, Pittsburgh, PA 15236-0940; Telephone (412) 386-5981; email: thomas.sarkus@netl.doe.gov.

SUPPLEMENTARY INFORMATION:

Purpose of the Council: The National Coal Council provides advice and recommendations to the Secretary of Energy on general policy matters relating to coal and the coal industry.

Purpose of Meeting: The National Coal Council (the Council) will hold a virtual meeting via webcast at 12:00 noon to 1:00 p.m. (EST) on July 16, 2020 for the purpose of reviewing and voting on the following report: COAL POWER: Smart Policies for Cleaner Stronger Energy. The Council membership will be asked to accept this report and forward it to the U.S. Secretary of Energy. The draft report is available on the National Coal Council website at the following URL: https://www.nationalcoalcouncil.org/studies/2020/COAL-POWER-Cleaner-Stronger-Energy.pdf.

Tentative Agenda

1. Call to order and opening remarks by Thomas Sarkus, NCC Deputy Designated Federal Officer, U.S. Department of Energy.

2. Presentation, Q&A session, and vote on NCC report: COAL POWER: Smart Policies for Cleaner Stronger Energy.

3. Public Comment Period and Closing Remarks.

4. Adjourn.

All attendees are requested to register in advance for the meeting at: http://www.nationalcoalcouncil.org/page-NCC-Events.html.

Public Participation: The meeting is open to the public. If you would like to file a written statement to be read during the virtual webcast, you may do so within three calendar days of the event. Please email your written statement to Thomas Sarkus at thomas.sarkus@netl.doe.gov by 5:00 p.m. (EST) on Monday, July 13, 2020. If you would like to make an oral statement during the call regarding the reports being reviewed, you must both register to attend the webcast and also contact Thomas Sarkus, (412) 386-5981 or thomas.sarkus@netl.doe.gov to state your desire to speak. You must make your request for an oral statement at least 3 calendar days before the meeting. Reasonable provision will be made to include oral statements at the conclusion of the meeting. However, those who fail to register in advance may not be accommodated. Oral statements are limited to 2-minutes per organization, and per person.

Minutes: A recording of the call will be posted on the FACA Database website: www.nationalcoalcouncil.org.

Signed in Washington, DC, on June 10, 2020.
LaTanya Butler,
Deputy Committee Management Officer.

[FR Doc. 2020-12877 Filed 6-15-20; 8:45 am]

BILLING CODE 6450-01-P